DEPARTMENT OF VETERANS AFFAIRS

38 CFR Part 21

RIN 2900-AJ89

Increase in Rates Payable Under the Montgomery GI Bill—Active Duty

AGENCY: Department of Veterans Affairs.

ACTION: Final rule.

SUMMARY: By statute, the monthly rates of basic educational assistance payable to veterans under the Montgomery GI Bill—Active Duty must be adjusted each fiscal year. In accordance with the statutory formula, the regulations governing rates of basic educational assistance payable under the Montgomery GI Bill—Active Duty for fiscal year 2000 (October 1, 1999, through September 30, 2000) are changed to show a 1.6% increase in these rates.

DATES: Effective Date: This final rule is effective July 20, 2000.

Applicability: However, the changes in rates are applied retroactively to conform to statutory requirements. For more information concerning the dates applicability, see the SUPPLEMENTARY INFORMATION section.

FOR FURTHER INFORMATION CONTACT: William G. Susling, Jr., Education Advisor, Education Service (225C), Veterans Benefits Administration, Department of Veterans Affairs, (202) 273-7187.

SUPPLEMENTARY INFORMATION: Under the formula mandated by 38 U.S.C. 3015(g) for fiscal year 2000, the rates of basic educational assistance under the Montgomery GI Bill—Active Duty payable to students pursuing a program of education full time must be increased by 1.6%, which is the percentage by which the total of the monthly Consumer Price Index-W for July 1, 1998, through June 30, 1999, exceeds the total of the monthly Consumer Price Index-W for July 1, 1997, through June 30, 1998.

It should be noted that some veterans will receive an increase in monthly payments that will be less than 1.6%. The increase does not apply to additional amounts payable by the Secretary of Defense to individuals with skills or a specialty in which there is a critical shortage of personnel (so-called “kickers”). It does not apply to amounts payable for dependents. Veterans who previously had eligibility under the Vietnam Era GI Bill receive monthly payments that are in part based upon basic educational assistance and in part based upon the rates payable under the Vietnam Era GI Bill. Only that portion attributable to basic educational assistance is increased by 1.6%.

38 U.S.C. 3015(a) and (b) require that the Department of Veterans Affairs (VA) pay part-time students at appropriately reduced rates. Since the first student became eligible for assistance under the Montgomery GI Bill—Active Duty in 1985, VA has paid three-quarter-time students and one-half-time students at 75% and 50% of the full-time institutional rate, respectively. Students pursuing a program of education at less than one-half but more than one-quarter-time have had their payments limited to 50% or less of the full-time institutional rate. Similarly, students pursuing a program of education at one-quarter-time or less have had their payments limited to 25% or less of the full-time institutional rate. Changes are made consistent with the authority and formula described in this paragraph.

In addition, 38 U.S.C. 3032(c) requires that monthly rates payable to veterans in apprenticeship or other on-the-job training must be set at a given percentage of the full-time rate. Hence, there is a 1.6% raise for such training as well.

Nonsubstantive changes also are made for the purpose of clarity.

The changes set forth in this final rule are effective from the date of publication, but the changes in rates are applied retroactively from October 1, 1999 in accordance with the applicable statutory provisions discussed above.

Changes made by this final rule merely reflect statutory requirements and adjustments made based on previously established formulas. Accordingly, there is a basis for dispensing with prior notice and comment and delayed effective date provisions of 5 U.S.C. 552 and 553.

Executive Order 12866

The Office of Management and Budget has reviewed this final rule under Executive Order 12866.

Regulatory Flexibility Act

The Secretary of Veterans Affairs hereby certifies that this final rule will not have a significant economic impact on a substantial number of small entities as they are defined in the Regulatory Flexibility Act, 5 U.S.C. 601-612. This final rule directly affects only individuals and does not directly affect small entities. Pursuant to 5 U.S.C. 605(b), this final rule, therefore, is exempt from the initial and final regulatory flexibility analyses requirements of sections 603 and 604.

Unfunded Mandates

The Unfunded Mandates Reform Act requires (in section 202) that agencies prepare an assessment of anticipated costs and benefits before developing any rule that may result in an expenditure by State, local, or tribal governments, in the aggregate, or by the private sector of $100 million or more in any given year. This rule would have no consequential effect on State, local, or tribal governments.

Catalog of Federal Domestic Assistance Program Numbers

The Catalog of Federal Domestic Assistance number for the program affected by this final rule is 64.124.

List of Subjects in 38 CFR Part 21

Administrative practice and procedure, Armed forces, Civil rights, Claims, Colleges and universities, Conflict of interests, Defense Department, Education, Employment, Grant programs-education, Grant programs-veterans, Health programs, Loan programs-education, Loan programs-veterans, Manpower training programs, Reporting and recordkeeping requirements, Schools, Travel and transportation expenses, Veterans, Vocational education, Vocational rehabilitation.

Approved: March 13, 2000.
Togo D. West, Jr.,
Secretary of Veterans Affairs.

For the reasons set out in the preamble, 38 CFR part 21, subpart K, is amended as follows:

PART 21—VOCATIONAL REHABILITATION AND EDUCATION

Subpart K—All Volunteer Force Educational Assistance Program (Montgomery GI Bill—Active Duty)

1. The authority citation for part 21, subpart K continues to read as follows:

Authority: 38 U.S.C. 501(a), chs. 30, 36, unless otherwise noted.

2. In § 21.7136, paragraphs (b), (c)(1), (c)(2), and (c)(3) are revised to read as follows:

§ 21.7136 Rates of payment of basic educational assistance.

* * * * *

(b) Rates. (1) Except as elsewhere provided in this section or in § 21.7139, the monthly rate of basic educational assistance payable for training that occurs after September 30, 1999, and before October 1, 2000, to a veteran whose service is described in paragraph (a) of this section is the rate stated in the following table:

Training | Monthly rate
Full time | $536.00
¾ time | 402.00
½ time | 268.00
Less than ½ but more than ¼ | 268.00
¼ time | 134.00

(Authority: 38 U.S.C. 3015)

(2) If a veteran's service is described in paragraph (a) of this section, the monthly rate payable to the veteran for pursuit of apprenticeship or other on-job training that occurs after September 30, 1999, and before October 1, 2000, is the rate stated in the following table:

Training period | Monthly rate
First six months of pursuit of training | $402.00
Second six months of pursuit of training | 294.80
Remaining pursuit of training | 187.50

(Authority: 38 U.S.C. 3015, 3032(c))

(3) If a veteran's service is described in paragraph (a) of this section, the monthly rate of basic educational assistance payable to the veteran for pursuit of a cooperative course is:

(i) $528.00 for training that occurs after September 30, 1998, and before October 1, 1999; and

(ii) $536.00 for training that occurs on or after September 30, 1999, and before October 1, 2000.

(Authority: 38 U.S.C. 3015)

(c) * * *

(1) Except as elsewhere provided in this section or in § 21.7139, the monthly rate of basic educational assistance payable to a veteran for training that occurs after September 30, 1999, and before October 1, 2000, is the rate stated in the following table.

Training | Monthly rate
Full time | $436.00
¾ time | 327.00
½ time | 216.00
Less than ½ but more than ¼ time | 216.00
¼ time or less | 108.00

(Authority: 38 U.S.C. 3015, 3032(c))

(2) The monthly rate of educational assistance payable to a veteran for pursuit of apprenticeship or other on-job training that occurs after September 30, 1999, and before October 1, 2000, is the rate stated in the following table:

Training period | Monthly rate
First six months of pursuit of training | $327.00
Second six months of pursuit of training | 239.80
Remaining pursuit of training | 152.60

(Authority: 38 U.S.C. 3015, 3032(c))

(3) The monthly rate of basic educational assistance payable to a veteran for pursuit of a cooperative course is:

(i) $429.00 for training that occurs after September 30, 1998, and before October 1, 1999; and

(ii) $436.00 for training that occurs on or after October 1, 1999, and before October 1, 2000.

(Authority: 38 U.S.C. 3015)

3. Section 21.7137 is amended by:

A. In paragraph (c)(2) introductory text, removing “1998, and before October 1, 1999” and adding, in its place, “1999, and before October 1, 2000”.

B. In paragraph (c)(2)(i), removing “$716.00” and adding, in its place, “$724.00”.

C. In paragraph (c)(2)(ii), removing “$537.50” and adding, in its place, “$543.50”.

D. In paragraph (c)(2)(iii), removing “$358.00” and adding, in its place, “$362.00”.

E. In paragraph (c)(2)(iv), removing “$179.00” and adding, in its place, “$181.00”.

F. Revising paragraph (a) to read as follows:

§ 21.7137 Rates of payment of basic educational assistance for individuals with remaining entitlement under 38 U.S.C. ch. 34.

(a) Minimum rates. (1) Except as elsewhere provided in this section, the monthly rate of basic educational assistance for training that occurs after September 30, 1999, and before October 1, 2000, is the rate stated in the following table:

Training | Monthly rate: No dependents | Monthly rate: One dependent | Monthly rate: Two dependents | Monthly rate: Additional for each additional dependent
Full time | $724.00 | $760.00 | $791.00 | 16.00
¾ time | 543.00 | 570.00 | 593.00 | 12.00
½ time | 362.00 | 380.00 | 395.00 | 8.50
Less than ½ but more than ¼ time | 362.00
¼ time or less | 181.00

(Authority: 38 U.S.C. 3015(e), (f), and (g))

(2) For veterans pursuing apprenticeship or other on-job training, the monthly rate of basic educational assistance for training that occurs after September 30, 1999, and before October 1, 2000, is the rate stated in the following table:

Training | Monthly rate: No dependents | Monthly rate: One dependent | Monthly rate: Two dependents | Monthly rate: Additional for each additional dependent
1st six months of pursuit of program | $504.75 | $517.13 | $528.00 | $5.25
2nd six months of pursuit of program | 351.18 | 360.53 | 368.23 | 3.85
3rd six months of pursuit of program | 211.40 | 217.53 | 222.25 | 2.45
Remaining pursuit of program | 199.50 | 205.28 | 210.53 | 2.45

(Authority: 38 U.S.C. 3015(e), (f), (g))

(3) The monthly rate payable to a veteran who is pursuing a cooperative course is the rate stated in the following table:

Training period | Monthly rate: No dependents | Monthly rate: One dependent | Monthly rate: Two dependents | Monthly rate: Additional for each additional dependent
Oct. 1, 1998-Sept. 30, 1999 | $716.00 | $752.00 | $783.00 | $16.00
On or after Oct, 1, 1999, and before Oct. 1, 2000 | 724.00 | 760.00 | 791.00 | 16.00

(Authority: 38 U.S.C. 3015)

* * * * *

[FR Doc. 00-18326 Filed 7-19-00; 8:45 am]

BILLING CODE 8320-01-P